DEPARTMENT OF STATE

[Public Notice: 11123]

U.S. Advisory Commission on Public Diplomacy; Notice of Meeting

The U.S. Advisory Commission on Public Diplomacy (ACPD) will hold a virtual public meeting from 12:00 p.m. until 1:30 p.m., Tuesday, June 23, 2020. The focus of the meeting will be Data Driven Public Diplomacy Six Years Later, based on a review of the 2014 report, “Data-driven Public Diplomacy: Progress Towards Measuring the Impact of Public Diplomacy and International Broadcasting Activities” (https://www.state.gov/data-driven-public-diplomacy-progress-towards-measuring-the-impact-of-public-diplomacy-and-international-broadcasting-activities/). The meeting will feature a panel of public diplomacy experts from the Department of State and the U.S. Agency for Global Media who will provide updates on the practice of using data to formulate public diplomacy programming.

This meeting is open to the public, including the media and members and staff of governmental and non-governmental organizations. To obtain the web conference link and password, please email ACPD Program Assistant Kristy Zamary at ZamaryKK@state.gov. Attendees should plan to enter the web conference waiting room by 11:50 a.m. to allow for a prompt start.

Since 1948, the ACPD has been charged with appraising activities intended to understand, inform, and influence foreign publics and to increase the understanding of, and support for, these same activities. The ACPD conducts research that provides honest assessments of public diplomacy efforts, and disseminates findings through white papers, reports, and other publications. It also holds public symposiums that generate informed discussions on public diplomacy issues and events. The Commission reports to the President, Secretary of State, and Congress. Currently, the Office of the Under Secretary of State for Public Diplomacy and Public Affairs supports it.

For more information on the U.S. Advisory Commission on Public Diplomacy, please contact the Commission's Executive Director, Vivian S. Walker, at WalkerVS@state.gov or Senior Advisor, Shawn Baxter, at BaxterGS@state.gov or please visit https://www.state.gov/bureaus-offices/under-secretary-for-public-diplomacy-and-public-affairs/united-states-advisory-commission-on-public-diplomacy/.

Kristina K. Zamary,
Department of State.

[FR Doc. 2020-11211 Filed 5-22-20; 8:45 am]

BILLING CODE 4710-45-P